SMALL BUSINESS ADMINISTRATION

[Declaration of Disaster #3424, Amdt. 2]

State of Colorado

In accordance with a notices received from the Federal Emergency Management Agency, dated August 1 and August 6, 2002, the above numbered declaration is hereby amended to establish the incident period for this disaster as beginning on April 23, 2002 and continuing through August 6, 2002. This declaration is also amended to extend the deadline for filing applications for physical damages as a result of this disaster to September 9, 2002.

All other information remains the same, i.e., the deadline for filing applications for economic injury is March 19, 2003.

(Catalog of Federal Domestic Assistance Program Nos. 59002 and 59008).
Dated: August 8, 2002.
S. George Camp,
Acting Associate Administrator for Disaster Assistance.

[FR Doc. 02-20716 Filed 8-14-02; 8:45 am]

BILLING CODE 8025-01-P